NATIONAL SCIENCE FOUNDATION

Notice of Intent To Seek Approval To Establish a New Information Collection

AGENCY: National Science Foundation.

ACTION: Notice and request for comments.

SUMMARY: The National Science Foundation (NSF) is announcing plans to request clearance of this collection. In accordance with the requirement of Section 3506(c) (2) (A) of the Paperwork Reduction Act of 1995 (Pub. L. 104-13), we are providing opportunity for public comment on this action. After obtaining and considering public comment, NSF will prepare the submission requesting that OMB approve clearance of this collection for no longer than three years.

DATES: Written comments on this notice must be received by February 26, 2001 to be assured of consideration. Comments received after that date will be considered to the extent practicable.

FOR FURTHER INFORMATION CONTACT: Contact Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIS) at 1-800-877-8339 between 8 a.m. and 8 p.m., Eastern time, Monday through Friday. You also may obtain a copy of the data collection instrument and instructions from Ms. Plimpton.

SUPPLEMENTARY INFORMATION: Title of Collection: National Science Foundation Information Technology Innovation Survey.

OMB Number: 3145-NEW.

Expiration Date of Approval: Not applicable.

Type of Request: Intent to seek approval to establish a new information collection.

Abstract:

Proposed Project: The NSF plans to survey a nationally representative sample of about 3,750 U. S. businesses in selected manufacturing and service-sector industries. The survey is designed to collect information about the planning for and impact of technological innovation. Using Web and Computer-Assisted Telephone Interviewing technologies, firms will asked about their strategic planning, use of technology, innovation activities based on information technology, factors influencing the decision to innovate, and the costs and expected benefits of information technology based innovation.

Use of the Information: The information will be used by NSF to: (1) Develop nationally representative profile of corporate information technology innovators and uses; (2) provide the means for comparative analyses among similar national studies; and (3) provide data for use by policy-makers to assist in understanding the development and use of information technology as they relate to formulating technology policy, regulatory reform, and other issues.

Estimate of Burden: Public reporting burden for this collection of information is estimated to average 12 minutes per response.

Respondents: Business or other for-profit.

Estimated Number of Responses Per Form: One.

Estimated Total Annual Burden on Respondents: 750 hours—3,750 respondents at 12 minutes per response.

Frequency of Responses: Once.

Comments

Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: December 19, 2000.
Suzanne H. Plimpton,
Reports Clearance Officer.

[FR Doc. 00-32793 Filed 12-22-00; 8:45 am]

BILLING CODE 7555-01-M